ENVIRONMENTAL PROTECTION AGENCY

[ER-FRL-9049-2]

Environmental Impact Statements; Notice of Availability

Weekly receipt of Environmental Impact Statements

Filed January 20, 2020, 10 a.m. EST

Through January 27, 2020, 10 a.m. EST

Pursuant to 40 CFR 1506.9

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search.

EIS No. 20200016, Draft, USFS, OR, Flat Country, Comment Period Ends: 03/16/2020, Contact: Dean Schlichting 541-822 7214

EIS No. 20200017, Draft, USFS, WY, Snow King Mountain Resort On-Mountain Improvements, Comment Period Ends: 03/16/2020, Contact: Sean McGinness 307-739-5415

EIS No. 20200018, Final Supplement, FERC, LA, Final Supplemental EIS for the Magnolia LNG Production Capacity Amendment, Review Period Ends: 03/02/2020, Contact: Office of External Affairs 866-208-3372

EIS No. 20200019, Draft, BLM, WY, Draft RMP Amendment and EIS for Wild Horse Management in the Rock Springs and Rawlins Field Offices, Wyoming, Comment Period Ends: 04/30/2020, Contact: Kimberlee Foster 307-352-0201

EIS No. 20200020, Draft, USACE, FL, Combined Operational Plan, Comment Period Ends: 03/16/2020, Contact: Melissa Nasuti 904-232-1368

EIS No. 20200021, Final, NRC, PA, Generic Environmental Impact Statement for License Renewal of Nuclear Plants, Supplement 10, Second Renewal, Regarding Subsequent License Renewal for Peach Bottom Atomic Power Station Units 2 and 3, Final Report, Review Period Ends: 03/02/2020, Contact: Lois M. James 301-415-3306

EIS No. 20200022, Final, BIA, CA, Final Environmental Impact Statement for the Campo Wind Project with Boulder Brush Facilities, Review Period Ends: 03/02/2020, Contact: Dan (Harold) Hall 916-978-6041

Amended Notice

EIS No. 20190287, Draft, BR, CO, Paradox Valley Unit of the Colorado River Basin Salinity Control Program Environmental Impact Statement, Comment Period Ends: 02/19/2020, Contact: Lesley McWhirter 970-248-0608

Revision to FR Notice Published 12/06/2019; Extending the Comment Period from 2/4/2020 to 2/19/2020.

Dated: January 28, 2020.
Robert Tomiak,
Director, Office of Federal Activities.

[FR Doc. 2020-01831 Filed 1-30-20; 8:45 am]

BILLING CODE 6560-50-P